DEPARTMENT OF ENERGY

Federal Energy Regulatory Commission

[Docket No. CP23-535-000]

WBI Energy Transmission, Inc.; Notice of Availability of the Environmental Assessment for the Proposed South Spearfish Project

The staff of the Federal Energy Regulatory Commission (FERC or Commission) has prepared an environmental assessment (EA) for the South Spearfish Project proposed by WBI Energy Transmission, Inc. (WBI Energy) in the above-referenced docket. WBI Energy requests authorization to construct, uprate, modify operate, and abandon natural gas facilities in Lawrence County, South Dakota. The proposed project activities include:

• remove an existing pressure regulation and overpressure protection equipment and the valve setting for the Deadwood-Central City Lateral on Line Section 15;

• increase the maximum allowable operating pressure of the 8-inch-diameter Deadwood-Central City Lateral from the Deadwood Mainline Transfer Station to the proposed South Spearfish Station from 200 pounds per square inch gauge (psig) to 470 psig;

• install two pig launcher/receivers; ¹

¹ A “pig” is a tool that the pipeline company inserts into and pushes through the pipeline for cleaning the pipeline, conducting internal inspections, or other purposes. A pig launcher/receiver are facilities where pigs are inserted/retrieved from the pipeline.

• construct a new South Spearfish Station adjacent to the existing South Spearfish Lateral Takeoff Valve Setting;

• relocate approximately 500 feet of the South Spearfish Lateral; and

• abandon by sale to Montana-Dakota Utilities Company the existing 5.5-mile-long 4-inch-diameter South Spearfish Lateral and certain equipment at the existing South Spearfish Town Border Station.

The proposed project would allow for the redirection of incremental firm transportation capacity from WBI Energy's existing Line Section 15 in western South Dakota to meet the natural gas needs of shippers in the Black Hills region of western South Dakota, including Montana-Dakota Utilities Company.²

² Under Docket CP23-87-000, WBI Energy was authorized to modify its Line Section 15 in Butte, Lawrence, Meade, and Pennington Counties, South Dakota in order to provide 15,000 dekatherms per day to Montana-Dakota Utilities Company for 10 years. The instant project would allow for this existing capacity to be directed to the proposed South Spearfish Station.

The EA assesses the potential environmental effects of the construction and operation of the South Spearfish Project in accordance with the requirements of the National Environmental Policy Act. The FERC staff concludes that approval of the proposed project, with appropriate mitigating measures, would not constitute a major federal action significantly affecting the quality of the human environment.

The Commission mailed a copy of the Notice of Availability of the EA to federal, state, and local government representatives and agencies; elected officials; Native American Tribes; potentially affected landowners and other interested individuals and groups; and libraries in the project area. The EA is only available in electronic format. It may be viewed and downloaded from the FERC's website (www.ferc.gov), on the natural gas environmental documents page (https://www.ferc.gov/industries-data/natural-gas/environment/environmental-documents). In addition, the EA may be accessed by using the eLibrary link on the FERC's website. Click on the eLibrary link (https://elibrary.ferc.gov/eLibrary/search), select “General Search” and enter the docket number in the “Docket Number” field (i.e., CP23-535). Be sure you have selected an appropriate date range. For assistance, please contact FERC Online Support at FercOnlineSupport@ferc.gov or toll free at (866) 208-3676, or for TTY, contact (202) 502-8659.

The EA is not a decision document. It presents Commission staff's independent analysis of the environmental issues for the Commission to consider when addressing the merits of all issues in this proceeding. Any person wishing to comment on the EA may do so. Your comments should focus on the EA's disclosure and discussion of potential environmental effects, reasonable alternatives, and measures to avoid or lessen environmental impacts. The more specific your comments, the more useful they will be. To ensure that the Commission has the opportunity to consider your comments prior to making its decision on this project, it is important that we receive your comments in Washington, DC on or before 5:00 p.m. Eastern Time on March 27, 2024.

For your convenience, there are three methods you can use to file your comments to the Commission. The Commission encourages electronic filing of comments and has staff available to assist you at (866) 208-3676 or FercOnlineSupport@ferc.gov. Please carefully follow these instructions so that your comments are properly recorded.

• You can file your comments electronically using the eComment feature on the Commission's website (www.ferc.gov) under the link to FERC Online. This is an easy method for submitting brief, text-only comments on a project;

• You can also file your comments electronically using the eFiling feature on the Commission's website (www.ferc.gov) under the link to FERC Online. With eFiling, you can provide comments in a variety of formats by attaching them as a file with your submission. New eFiling users must first create an account by clicking on “eRegister.” You must select the type of filing you are making. If you are filing a comment on a particular project, please select “Comment on a Filing;” or

• You can file a paper copy of your comments by mailing them to the Commission. Be sure to reference the project docket number (CP23-535-000) on your letter. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852.

Filing environmental comments will not give you intervenor status, but you do not need intervenor status to have your comments considered. Only intervenors have the right to seek rehearing or judicial review of the Commission's decision. At this point in this proceeding, the timeframe for filing timely intervention requests has expired. Any person seeking to become a party to the proceeding must file a motion to intervene out-of-time pursuant to Rule 214(b)(3) and (d) of the Commission's Rules of Practice and Procedures (18 CFR 385.214(b)(3) and (d)) and show good cause why the time limitation should be waived. Motions to intervene are more fully described at https://www.ferc.gov/how-intervene.

Additional information about the project is available from the Commission's Office of External Affairs, at (866) 208-FERC, or on the FERC website (www.ferc.gov) using the eLibrary link. The eLibrary link also provides access to the texts of all formal documents issued by the Commission, such as orders, notices, and rulemakings.

The Commission's Office of Public Participation (OPP) supports meaningful public engagement and participation in Commission proceedings. OPP can help members of the public, including landowners, environmental justice communities, Tribal members, and others, access publicly available information and navigate Commission processes. For public inquiries and assistance with making filings such as interventions, comments, or requests for rehearing, the public is encouraged to contact OPP at (202) 502-6595 or OPP@ferc.gov.

In addition, the Commission offers a free service called eSubscription which allows you to keep track of all formal issuances and submittals in specific dockets. This can reduce the amount of time you spend researching proceedings by automatically providing you with notification of these filings, document summaries, and direct links to the documents. Go to https://www.ferc.gov/ferc-online/overview to register for eSubscription.

Dated: February 27, 2024.
Debbie-Anne A. Reese,
Acting Secretary.

[FR Doc. 2024-04536 Filed 3-4-24; 8:45 am]

BILLING CODE 6717-01-P